DEPARTMENT OF COMMERCE

National Oceanic and Atmospheric Administration

RIN 0648-XF003

Fishing Capacity Reduction Program for the Southeast Alaska Purse Seine Salmon Fishery

AGENCY: National Marine Fisheries Service (NMFS), National Oceanic and Atmospheric Administration (NOAA), Commerce.

ACTION: Notice of eligible voters; referendum voting period; public meetings.

SUMMARY: NMFS issues this notice to inform persons of their eligibility to vote and referendum voting period in the fishing capacity reduction program referendum for a second loan in the Southeast Alaska Purse Seine Salmon Fishery. NMFS will hold a series of public meetings with Southeast Alaska purse seine salmon permit holders and interested individuals.

DATES: Comments must be submitted on or before 5 p.m. EST December 7, 2016.

The meetings will be held between November 14 and November 17, 2016. For specific times, please see the Public Meetings heading in the SUPPLEMENTARY INFORMATION section.

ADDRESSES: The meetings will be held in Sitka, AK, Ketchikan, AK, Petersburg, AK, and Seattle, WA. For specific locations, please see Public Meetings heading in the SUPPLEMENTARY INFORMATION section. Send comments about this notice to Paul Marx, Chief, Financial Services Division, NMFS, Attn: SE Alaska Purse Seine Salmon Buyback, 1315 East-West Highway, Silver Spring, MD 20910.

FOR FURTHER INFORMATION CONTACT: Michael A. Sturtevant at (301) 427-8799, fax (301) 713-1306, or michael.a.sturtevant@noaa.gov.

SUPPLEMENTARY INFORMATION:

I. Background

The Southeast Alaska purse seine salmon fishery is a commercial fishery in Alaska state waters and adjacent Federal waters. It encompasses the commercial taking of salmon with purse seine gear, and participation is limited to fishermen designated by the Alaska Commercial Fisheries Entry Commission (CFEC). Congress authorized a $23.5 million loan to finance a fishing capacity reduction program in the Southeast Alaska purse seine salmon fishery. NMFS published proposed program regulations on May 23, 2011 (76 FR 29707), and final program regulations on October 6, 2011 (76 FR 61986), to implement the reduction program.

In 2012, NMFS conducted a referendum to determine the remaining fishermen's willingness to repay a $13.1 million fishing capacity reduction loan to remove 64 permits. After a majority of permit holders approved the loan, NMFS disbursed payments to the successful bidders and began collecting fees to repay the loan. Since only $13.1 million was expended from the total loan amount, $10.4 remains available. This second referendum, if approved, will result in a second loan of $5.8 million and permanently retire an additional 22 permits from the fishery.

In August 2016, the Southeast Revitalization Association submitted a second capacity reduction plan to NMFS and NMFS approved the second plan in October 2016. The final regulations require NMFS to publish this notice before conducting a referendum to determine the industry's willingness to repay a second fishing capacity reduction loan to purchase the permits identified in the second reduction plan.

As of October 21, 2016, there are 315 permits in the fishery designated as S01A by CFEC. These permanent permit holders are eligible to vote in this second referendum. Comments may address: (1) Persons who appear on the below list but should not; (2) persons who do not appear on the list but should; (3) persons whose names and/or business mailing addresses are incorrect; and (4) any other pertinent matter. NMFS will update the list, as necessary, immediately before mailing referendum ballots. Mailed ballots will be accompanied by NMFS' detailed voting guidance.

II. Referendum Voting Period

The referendum voting period will start December 13, 2016 and end on January 13, 2017. Any votes not received by NMFS by 5 p.m. on January 13, 2017, will not be counted.

III. Public Meetings

NMFS will hold a series of four public informational meetings with Southeast Alaska purse seine salmon permit holders and interested individuals:

• Monday, November 14, 2016, from 2 p.m. to 4 p.m. in Sitka, AK, at the Westmark Sitka Hotel (330 Seward Street).

• Tuesday, November 15, 2016, from 3 p.m. to 5 p.m. in Ketchikan, AK, at the Best Western Plus Landing Hotel (3434 Tongass Avenue).

• Wednesday, November 16, 2016, from 12 p.m. to 2 p.m. in Petersburg, AK, at the Petersburg Public Library Community Room (14 South Second Street).

• Thursday, November 17, 2016, from 10 a.m. to 12 p.m. in Seattle, WA at CenturyLink Field Event Center Media Room 1D47 (800 Occidental Ave South).

Comments and questions regarding any aspect of the fishing capacity reduction program are welcome.

Special Accommodations

These meetings are physically accessible to people with disabilities. Requests for sign language interpretation or other auxiliary aids should be directed to Michael A. Sturtevant (see ADDRESSES), at least 5 working days prior to the meeting date.

The following list of eligible voters was provided by CFEC on October 21, 2016:

BILLING CODE 3510-22-C

Dated: November 1, 2016.
Brian T. Pawlak,
CFO/Director, Office of Management and Budget, National Marine Fisheries Service.

[FR Doc. 2016-26846 Filed 11-4-16; 8:45 am]

BILLING CODE 3510-22-P